Title 3—

The President

Presidential Determination No. 2008-21 of June 20, 2008

Waiving the Prohibition on the Use of Economic Support Funds With Respect to Various Parties to the Rome Statute Establishing the International Criminal Court

Memorandum for the Secretary of State

Pursuant to the authority vested in me by the Constitution and the laws of the United States, including section 574 of the Foreign Operations, Export Financing, and Related Programs Appropriations Act, 2006 (Public Law 109-102), as carried forward by the Revised Continuing Appropriations Resolution, 2007 (Public Law 110-5), I hereby:

• Determine that it is important to the national interests of the United States to waive the prohibition of aforementioned section 574(a) with respect to Bolivia, Costa Rica, Cyprus, Ecuador, Kenya, Mali, Mexico, Namibia, Niger, Paraguay, Peru, Samoa, South Africa, and Tanzania; and

• Waive the prohibition of aforementioned section 574(a) with respect to these countries.

You are authorized and directed to report this determination to the Congress and to arrange for its publication in the Federal Register.

THE WHITE HOUSE,

Washington, June 20, 2008.

[FR Doc. 08-1393

Filed 6-25-08; 9:43 am]

Billing code 4710-10-P